DEPARTMENT OF DEFENSE

Department of the Air Force

Notice of Intent To Prepare an Environmental Impact Statement for the F-35A Beddown at Moody Air Force Base, Georgia

AGENCY: Department of the Air Force, Department of Defense.

ACTION: Notice of intent.

SUMMARY: The Department of the Air Force (DAF) is issuing this Notice of Intent (NOI) to advise the public of its intent to prepare an Environmental Impact Statement (EIS) to evaluate the potential environmental consequences associated with the proposed beddown of two squadrons of F-35A aircraft at Moody Air Force Base (AFB), Lowndes and Lanier Counties, Georgia. This EIS is prepared to meet the requirements of the National Environmental Policy Act (NEPA) of 1969, as amended. The Unique Identification Number for this Draft EIS is EISX-007-57-14Y-1741608578.

DATES: A public scoping period will run through August 25, 2025. The DAF will hold two public scoping meetings virtually on Tuesday, August 12, 2025, from 5:00 p.m. to 7:00 p.m. (eastern time), and on Thursday, August 14, 2025, from 5:00 p.m. to 7:00 p.m. (eastern time). Although comments can be submitted to the DAF at any time during the EIS process, scoping comments are requested by August 24, 2025, to ensure full consideration in the draft EIS.

ADDRESSES: The meeting links for the two virtual public scoping meetings identified in the DATES section in this NOI are located at moodyafb-f35beddown-eis.com. Comments can be submitted through the U.S. mail to Attn: F-35A Beddown EIS, 4833 Conti Street, Suite 103, New Orleans, Louisiana 70119.

FOR FURTHER INFORMATION CONTACT: For questions regarding the Proposed Action, scoping, and EIS development, please contact Victoria Hernandez, Moody AFB Public Affairs Office, at (229) 257-4146 or at 23wg.pa@us.af.mil, with “F-35A Beddown EIS” in the subject line. The public and interested parties can submit their comments through the project website at moodyafb-f35beddown-eis.com.

SUPPLEMENTARY INFORMATION: The purpose of the Proposed Action is to expand DAF's fifth-generation operational fighter fleet, including the F-35A aircraft, and beddown two F-35A squadrons at a current Active Duty operational A-10 Installation not already provisionally identified for mission recapitalization. The Proposed Action is needed to maintain combat capability and mission readiness of existing fighter squadrons following the scheduled divestment (i.e., retirement) of A-10C aircraft.

Under the Proposed Action, the DAF would beddown two F-35A squadrons at Moody AFB. The proposed beddown includes aircraft operations, the necessary personnel to support those operations, and associated facility and infrastructure demolition, construction, and renovation. The planned divestment of A-10C aircraft at Moody AFB will occur before the first F-35A aircraft would arrive. DAF anticipates that F-35A aircraft would be operational at Moody AFB by October 2030.

The No Action Alternative would not beddown F-35A aircraft at Moody AFB. No proposed F-35A aircraft mission activities (i.e., aircraft operations at the airfield or in the Moody Airspace Complex, facility and infrastructure projects, and personnel changes) would occur at Moody AFB. Under the No Action Alternative, the planned divestment of the A-10C aircraft based at Moody AFB would occur and the 74th Fighter Squadron and 75th Fighter Squadron would be deactivated. The retirement of A-10C aircraft includes associated personnel, A-10C aircraft airfield operations, and A-10C aircraft operations in the airspace and at Grand Bay Range.

The EIS will analyze the Proposed Action and No Action Alternative. Key resources of concern, for which adverse impacts could occur, include noise, biological resources, cultural resources, and socioeconomics. An assessment of potential impacts on all relevant resource areas will be included in the EIS, including an analysis of environmental effects that are reasonably foreseeable and have a close causal relationship to the Proposed Action.

Potential permits that may be required include, but are not limited to, General Construction Permit; State of Georgia, Environmental Protection Division Land Disturbance Permit; U.S. Environmental Protection Agency Notification of Demolition under the Asbestos National Emissions Standards for Hazardous Air Pollutants; Stormwater Permit; Synthetic Minor Permit Modification; U.S. Army Corps of Engineers Wetlands Jurisdictional Determination; and Clean Water Act 404/401 Permits. Additionally, the DAF will consult with U.S. Fish and Wildlife Service under Section 7 of the Endangered Species Act as well as Georgia and Florida State Historic Preservation Offices and federally recognized tribes regarding Section 106 consultation under the National Historic Preservation Act.

To effectively define the full range of issues and alternatives to be evaluated in the EIS, the DAF invites the public, stakeholders, and other interested parties to attend the virtual scoping meetings. Please provide comments on alternatives or impacts on relative information, studies, or analyses with respect to the Proposed Action. Comments regarding this proposal can be submitted during the scoping meetings, through the website, or by mail as identified in the ADDRESSES section in this NOI.

(Authority: 42 U.S.C. 4321, et seq.)

Tommy W. Lee,
Acting Air Force Federal Register Liaison Officer.

[FR Doc. 2025-14057 Filed 7-24-25; 8:45 am]

BILLING CODE 3911-44-P